DEPARTMENT OF COMMERCE

U.S. Census Bureau

Agency Information Collection Activities; Submission to the Office of Management and Budget (OMB) for Review and Approval; Comment Request; Boundary and Annexation Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Boundary and Annexation Survey, prior to the submission of the information collection request (ICR) to OMB for approval.

DATES: To ensure consideration, comments regarding this proposed information collection must be received on or before July 19, 2021.

ADDRESSES: Interested persons are invited to submit written comments by email to robin.a.pennington@census.gov. Please reference “Boundary and Annexation Survey” in the subject line of your comments. You may also submit comments, identified by Docket Number USBC-2021-0012, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Clements, Geography Division, Spatial Data Collection and Products Branch, at 301-763-9124 or michael.j.clements@census.gov.

SUPPLEMENTARY INFORMATION:

I. Abstract

The U.S. Census Bureau conducts many voluntary geographic programs designed to collect addresses, boundaries, and linear features for incorporation into Master Address File and Topologically Integrated Geographic Encoding and Reference (MAF/TIGER) System. The Boundary and Annexation Survey (BAS) is one of these programs. It provides tribal, state, and local governments an opportunity to review the Census Bureau's legal boundary data to ensure the Census Bureau has the correct boundary, name, and status information. BAS also allows participants to review and provide updates to Census Designated Places (CDPs). BAS fulfills the agency's responsibility as part of the National Spatial Data Infrastructure, for which the Office of Management and Budget (OMB) Circular A-16 designates the Census Bureau as the lead federal agency for maintaining national data about legal government boundaries, as well as statistical and administrative boundaries. BAS supports the spatial data steward responsibilities of the OMB E-Gov, Data.gov, the National Map, and Geographic Names Information System.

The Census Bureau uses the boundaries collected in BAS to tabulate data for various censuses and surveys including the decennial census, American Community Survey (ACS), and Population Estimates Program (PEP). It also uses the legal boundaries collected through BAS to support several other programs such as Congressional and State Legislative redistricting, the Economic Census, the Geographic Update Population Certification Program, and the Special Census program.

Numerous federal programs also rely on accurate boundaries collected through BAS. The U.S. Geological Survey's National Map is updated annually to depict the legal boundaries provided by BAS. The Department of Housing and Urban Development uses legal boundaries to determine jurisdictional eligibility for various grant programs, such as the Community Development Block Grant program. In addition, the Department of Agriculture uses legal boundaries to determine eligibility for various rural housing and economic development programs.

The BAS participation process is like the Census Bureau's other geographic programs with key differences in the participants, requirements, and timeframe of the program. BAS follows the process outlined below:

• The Census Bureau notifies all eligible tribal, state, and local governments that the program has started. BAS participants receive notification through email and mail.

• Tribal, state, and local governments are instructed to review the legal boundary, name, and status information, along with the contact information the Census Bureau has on file for their government. Eligible governments can review their boundaries using the Census Bureau's TIGERweb online Geographic Information System (GIS) viewer, partnership shapefiles, or PDF maps.

• Eligible governments respond if they have legal boundary, CDP, or contact updates to report through an online form, email, fax, or mail. Participants with boundary updates can choose to report updates using the Census Bureau's Geographic Update Partnership Software (GUPS), their own GIS, or on paper maps. Participants choose to receive the materials through download, by mail on CD/DVD, or on large format paper maps.

• Tribal, state, and local governments return updates to the Census Bureau. Paper map updates are returned through the mail, while updates created using GUPS or participant's own GIS are returned through the Census Bureau's Secure Web Incoming Module (SWIM) file transfer module.

• The Census Bureau processes and verifies all tribal, state, and local government boundary updates for accuracy and completeness. The updates are incorporated into the Census Bureau's database and quality control is performed.

• The Census Bureau uses the updated boundaries to tabulate data for various censuses and surveys, including the decennial census, ACS, and PEP.

Legal Information

The Census Bureau reviews and maintains a list of each state's legal boundary laws and statutes. This information is made available to tribal, state, and local government participants on the BAS website. In addition, the Census Bureau uses this information to verify that updates provided by program participants are made in accordance with state law.

If it comes to the Census Bureau's attention that an area of non-tribal land is in dispute between two or more jurisdictions, the Census Bureau will not make annexations or boundary corrections until all affected parties come to a written agreement, or there is a documented final court decision regarding the matter and/or dispute.

If there is a dispute over an area of tribal land, the Census Bureau will not make boundary updates until the participants provide supporting documents or the U.S. Department of the Interior issues a comment. If necessary, the Census Bureau will request clarification regarding current boundaries or supporting documentation, from the U.S. Department of the Interior, Office of the Solicitor.

BAS Universe

BAS includes approximately 40,000 tribal, state, and local governments. Annually, the following government types are invited to participate in the program:

• Federally recognized tribes with a reservation or off-reservation trust land (including tribal subdivisions).

• States.

• Counties and county equivalent governments.

• Incorporated Places (including Consolidated Cities).

• Minor Civil Divisions.

• A single respondent for the Hawaiian home land boundary and status information.

• A single respondent for the municipio, barrio, barrio-pueblo, and subbarrio boundary and status information in Puerto Rico.

The Census Bureau also established state and county-level partnership agreements where either the state or county responds on behalf of the local governments within its jurisdiction. Local governments within these agreements are notified of the BAS program, however, do not receive materials or provide boundary updates directly. Those governments are instructed to work with their state or county BAS contact to provide the updates to the Census Bureau.

II. Method of Collection

The Census Bureau collects legal boundary, CDP, and contact updates through the BAS program. The BAS program also works with tribal, state, and local governments on other efforts to update and maintain the quality of the legal boundary data. The following collection methods allow the Census Bureau to coordinate among various levels of governments to obtain the most accurate legal boundary, CDP, and contact information:

• BAS

○ Annual Response

○ Submissions—Digital and Paper

○ Non-Response Follow-Up

○ State Agreements

○ Consolidated BAS (CBAS) Agreements

• State Certification

• Boundary Quality

BAS

The Census Bureau collects legal boundary, CDP, and contact updates from tribal, state, and local governments during BAS. Governments are first contacted during annual response where they are asked if they have legal boundary, CDP, or contact updates to report. Those indicating they have updates to provide can choose to create a submission using an approved response method. Those governments that do not respond to annual response or those governments that indicate they have updates to provide are followed up with during BAS non-response follow-up. The BAS schedule is outlined below.

• January 1—Boundary updates must be legally in effect on or before this date to be reported in the current survey year.

• January to May—Tribal, state, and local governments respond during annual response or non-response follow-up indicating if they have legal boundary, CDP, or contact updates to report. Those with boundary updates to report download or request materials to create a submission to return to the Census Bureau.

• Early January—The Census Bureau sends the annual response email. Tribal, state, and local governments are contacted through email to determine if they have legal boundary, CDP, or contact updates to report.

• Late January—The Census Bureau sends the annual response letter. Tribal, state, and local governments that do not have an email address on file with the Census Bureau or did not respond to the annual response email are contacted through mail to determine if they have legal boundary, CDP, or contact updates to report.

• Mid-February—The Census Bureau conducts BAS non-response follow-up through email. Governments that have not responded to annual response, along with those that indicated they have boundary changes to report, are contacted through email.

• March 1—Boundary updates returned by this date will be reflected in the ACS and PEP data and in next year's BAS materials.

• March to May—The Census Bureau conducts BAS non-response telephone follow-up. Governments that did not respond to the annual response email, letter, and non-response email are contacted over the phone to determine if they have any legal boundary, CDP, or contact updates to report.

• May 31—Boundary updates returned by this date will be reflected in next year's BAS materials.

BAS—Annual Response

The Census Bureau first contacts tribal, state, and local governments during annual response. During this phase, the Census Bureau contacts all eligible governments through email and mail. The BAS annual response email includes program information and directs governments to respond through an online form if they have legal boundary, CDP, or contact updates to report. Only those governments that do not have an email address on file with the Census Bureau or did not respond to the annual response email are contacted through mail. The mailed package consists of a letter, one-page response form, and program flyer.

Through annual response, participants are instructed to review the legal boundary, name, and status information, along the contact information that the Census Bureau has on file for their government. BAS participants are also able to review CDP boundaries. Eligible governments can review their boundaries using the Census Bureau's TIGERweb online GIS viewer, partnership shapefiles, or PDF maps.

Participants respond if they have legal boundary, CDP, or contact updates to report through an online form, email, fax, or mail. Those indicating they have updates to provide can choose to create a submission using the Census Bureau's GUPS tool, their own GIS, or on paper maps. Participants can request to receive the materials to create their submission through download, by mail on CD/DVD or on large format paper maps.

The Census Bureau uses email and encourages participants to use the online form to respond to annual response to reduce cost and participant burden.

BAS—Submissions

Tribal, state, and local governments with boundary updates can choose to create a submission using either digital or paper response methods during annual response. The data provided to the partners, by the Census Bureau, are derived from its MAF/TIGER database. The boundary data reflects updates reported by partners through the prior year's BAS.

BAS—Digital Submission Methods

The Census Bureau offers participants two digital submission methods. Governments with boundary updates can create a submission using the GUPS tool or their own GIS. When completing annual response, participants select one of the following options:

• CD/DVD. Participants can choose to receive GUPS and the partnership shapefiles through mail on CD/DVD.

• Download. Participants can choose to download GUPS and partnership shapefiles, or partnership shapefiles only to use in their own GIS. The Census Bureau also offers a partnership toolbox that can be used in the partner's own GIS.

Those partners that elect to receive digital materials on CD/DVD will receive a package through the mail containing the following materials:

• Letter.

• State specific inserts.

• Form specific to the government type.

○ BAS-1—Incorporated places and consolidated cities.

○ BAS-2—Counties and county equivalent governments.

○ BAS-3—Minor civil divisions.

○ BAS-5—Federally recognized tribal reservations and off-reservation trust lands.

• CD or DVD containing GUPS tool.

• CD or DVD containing partnership shapefiles, respondent guides, and a readme text file.

Governments that elect to download materials can find the software, partnership shapefiles, respondent guides, and other information included in the letter and form on the BAS website.

Tribal, state, and local governments use GUPS or their own GIS to create a submission with legal boundaries updates, and optionally, CDPs, linear features and landmarks updates. Partners return these updates electronically using the Census Bureau's SWIM file transfer module. Governments selecting one of the digital response methods during annual response will receive SWIM access information through email.

BAS—Paper Submission Method

The Census Bureau also provides partners a paper map option to create a submission with legal boundary, CDP, linear feature, and landmark updates. When completing annual response, partners select the following option:

• Paper maps. Participants can choose to receive large format paper maps through mail.

Those partners that elect to receive paper maps will receive a package through the mail containing the following materials:

• Letter.

• State specific inserts.

• Form specific to the government type.

○ BAS-1—Incorporated places and consolidated cities.

○ BAS-2—Counties and county equivalent governments.

○ BAS-3—Minor civil divisions.

○ BAS-5—Federally recognized tribal reservations and off-reservation trust lands.

• Large format paper maps covering the extent of the government.

• Supplies to update the paper maps.

• Respondent guide.

• Postage-paid return envelope.

Tribal, state, and local governments use the provided supplies to annotate legal boundaries updates, and optionally, CDPs, linear features and landmarks updates on paper maps. Partners return these updates using the Census Bureau provided postage-paid return envelope.

BAS—Non-Response Follow-Up

Tribal, state, and local governments that do not respond to annual response or those governments that indicate they have updates to provide are followed up with during BAS non-response follow-up. Non-response follow-up is conducted through email and over the phone.

Governments that have not responded to annual response, along with those that indicated they have boundary changes to report, are first contacted through email. The email reminds participants to respond through an online form if they have legal boundary, CDP, or contact updates to report. Those governments that indicated they have boundary updates to report are requested to submit those updates to the Census Bureau by the BAS program deadline.

Partners that still have not responded are contacted by phone later in the program cycle. Governments are requested to provide a response over the phone on whether they have legal boundary, CDP, or contact updates to report. Again, those governments that indicated they have boundary updates to report are reminded to submit those updates to the Census Bureau by the program deadline.

State Agreements

BAS state agreements allow for the coordination and sharing of information and resources between the Census Bureau and state governments in collecting boundary information for local governments. Through this agreement with state governments, the Census Bureau aims to reduce the duplication of effort across various levels of governments as well as the cost and time burden associated with participating in BAS. To facilitate a state agreement, the Census Bureau may enter a Memorandum of Understanding (MOU) with the state. States interested in establishing a state agreement MOU can do so when there is state legislation requiring local governments to report all legal boundary updates to a state agency.

The Census Bureau currently maintains two types of state agreements. In the first type of agreement, the state reports boundary changes for all local governments within its jurisdiction during BAS. Local governments in this type of agreement are notified about BAS, however, do not receive materials to participate, and are instructed to report all boundary updates to the state so that they are reported to the Census Bureau. Under the second type of agreement, the state provides the Census Bureau with a list of local governments that reported boundary changes. The Census Bureau uses the list to target those local governments during BAS. States have the option to report the list of governments with known legal boundary changes to the Census Bureau.

Consolidated BAS (CBAS) Agreements

The Census Bureau offers CBAS agreements to counties or county equivalent governments that are interested in submitting boundary updates for legal governments within their jurisdiction. CBAS agreements help ensure collection of complete and accurate boundary data, reduces duplication of effort between local and county governments and the Census Bureau, and reduces the cost and time burden on local governments. Once entered into a CBAS agreement, local governments are notified about BAS, however, do not receive materials to participate, and are instructed to report all boundary updates to the county or county equivalent government so that they are reported to the Census Bureau.

State Certification

The state certification program provides an annual opportunity for state agencies to verify that the legal boundary, name, and status information received through BAS updates were reported in accordance with state law. The Census Bureau requests that each state governor designate a state certifying official (SCO) to participate in the program. The SCO reviews listings of legal boundary changes, as well as government names and statuses that were submitted through the previous year's BAS. These listings include the attribute information for new incorporations, dissolutions, mergers, consolidations, and legal boundary changes. The listings also include the names and functional statuses of all local governments within the state's jurisdiction. The SCO can request that the Census Bureau edit the attribute data, add missing records, or remove invalid records. Invalid records only are removed if the state government maintains an official record of all changes to legal boundaries and governments as mandated by state law. The state certification schedule is as follows:

• October—The Census Bureau sends out governor's letters requesting the state appoint an SCO to participate in the program.

• December—The Census Bureau distributes the SCO emails. The SCO email contains information required by the SCO to participate in the program.

• March—The Census Bureau distributes discrepancy emails to local governments based on feedback from the SCO.

The state certification materials include a governor's letter, an email to the SCO, respondent guide, legal boundary change and government name and status listings, and discrepancy email to local governments. The listings and respondent guide are provided on the BAS website. The SCO returns all updates electronically through the SWIM file transfer module.

Boundary Quality

The Boundary Quality project is designed to assess, analyze, and improve the spatial quality of legal, statistical, and administrative boundaries within the Census Bureau's MAF/TIGER System. Ensuring quality boundaries is a critical component of the geographic preparations for each decennial census and the Census Bureau's ongoing geographic programs. In addition, the improvement of boundary quality is an essential element of the Census Bureau's commitment as the responsible agency for legal boundaries under OMB Circular A-16.

The Boundary Quality project represents an effort to systematically target and assess boundary quality within the Census Bureau's MAF/TIGER System. Historically, it has relied exclusively on geographic programs such as BAS and the Participant Statistical Areas Program (PSAP) to obtain updates to tribal, state, local government, and CDP boundaries. While programs like BAS play an essential role in improving boundary quality, the goal of boundary quality activities is to establish a more accurate baseline for legal boundaries and CDPs within an entire state or county. BAS would build on this baseline by collecting individual legal boundary changes and optionally associated addresses, and CDP updates, on a transaction basis as they occur over the years.

III. Data

OMB Control Number: 0607-0151.

Form Number(s): BAS-1, BAS-2, BAS-3, BAS-5, BAS-ARF.

Type of Review: Regular submission, Request for a Revision of a Currently Approved Collection.

Affected Public: Tribal, state, and local governments in all fifty states and District of Columbia.

Estimated Number of Respondents: 40,000 governments.

Estimated Time per Response: 7.5 hours. This estimate is based on an average of 5 hours for a no change participant and 10 hours for a participant with changes.

Estimated Total Annual Burden Hours: 300,000.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13, U.S.C., Section 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-10369 Filed 5-17-21; 8:45 am]

BILLING CODE 3510-07-P